DEPARTMENT OF LABOR

Employment and Training Administration

[TA-W-65,437; TA-W-65,437A; TA-W-65,437B]

Navistar, Inc. Engine Group, Indianapolis Engine Plant; Indianapolis Casting Corporation, a Wholly Owned Subsidiary of Navistar, Inc.; Navistar, Inc. Engine Group, Advanced Manufacturing Engineering; Including On-Site Leased Workers From Community Hospital, Nishida, Securitas and Populus Group, Indianapolis, IN; Amended Certification Regarding Eligibility To Apply for Worker Adjustment Assistance and Alternative Trade Adjustment Assistance

In accordance with Section 223 of the Trade Act of 1974 (19 USC 2273), and Section 246 of the Trade Act of 1974 (26 USC 2813), as amended, the Department of Labor issued a Certification of Eligibility to Apply for Worker Adjustment Assistance and Alternative Trade Adjustment Assistance on March 19, 2009, applicable to workers of Navistar, Inc., Engine Group, Indianapolis Engine Plant, including on-site leased workers of Community Hospital, Nishida and Securitas, Indianapolis Casting Corp., a wholly owned subsidiary of Navistar, Inc., including on-site leased workers from Community Hospital, Nishida and Securitas and Navistar, Inc., Engine Group, Advanced Manufacturing Engineering, including on-site leased workers from Community Hospital, Nishida and Securitas, Indianapolis, Indiana. The notice was published in the Federal Register on April 7, 2009 (74 FR 15757).

At the request of the State agency, the Department reviewed the certification for workers of the subject firm. The workers are engaged in activities related to diesel engine production.

New information shows that workers leased from Populus Group were employed on-site at the above mentioned Indianapolis, Indiana locations of Navistar, Inc., Engine Group, Indianapolis Engine Plant, Indianapolis Casting Corporation, a wholly owned subsidiary of Navistar, Inc. and Navistar, Inc., Engine Group, Advance Manufacturing Engineering. The Department has determined that these workers were sufficiently under the control of the subject firm to be considered leased workers.

The intent of the Department's certification is to include all workers of the subject firm secondarily affected as a supplier of diesel engines to a trade certified firm.

Based on these findings, the Department is amending this certification to include workers leased from Populus Group working on-site at the Indianapolis, Indiana locations.

The amended notice applicable to TA-W-65,437 & A & B is hereby issued as follows:

All workers of Navistar, Inc., Engine Group, Indianapolis Engine Plant, including on-site leased workers from Community Hospital, Nishida, Securitas and Populus Group, Indianapolis, Indiana (TA-W-65,437), Indianapolis Casting Corporation, a wholly owned subsidiary of Navistar, Inc., including on-site leased workers of Community Hospital, Nishida, Securitas and Populus Group, Indianapolis, Indiana (TA-W-65,437A), and Navistar, Inc., Engine Group, Advanced Manufacturing Engineering, including on-site leased workers of Community Hospital, Nishida, Securitas and Populus Group, Indianapolis, Indiana (TA-W-65,437B), who became totally or partially separated from employment on or after February 26, 2008, through March 19, 2011, are eligible to apply for adjustment assistance under Section 223 of the Trade Act of 1974, and are also eligible to apply for alternative trade adjustment assistance under Section 246 of the Trade Act of 1974.

Signed at Washington, DC, this 13th day of May 2009.
Richard Church,
Certifying Officer, Division of Trade Adjustment Assistance.

[FR Doc. E9-14060 Filed 6-15-09; 8:45 am]

BILLING CODE 4510-FN-P